DEPARTMENT OF JUSTICE

Notice of Lodging of Consent Decree Under the National Marine Sanctuaries Act, The Park System Resource Protection Act, The Oil Pollution Act and The Clean Water Act

Notice is hereby given that on September 19, 2011, a proposed Consent Decree in United States v. M/V COSCO BUSAN, et al., Civil Action No. 07-6045 SC, was lodged with the United States District Court for the Northern District of California.

In this action, the United States sought reimbursement of response costs, natural resource damages and assessment costs, and penalties resulting from the discharge of oil that occurred when the M/V COSCO BUSAN allided with the San Francisco-Oakland Bay Bridge on November 7, 2007. The allision caused an approximate 53,000 gallon oil spill into the San Francisco Bay. The settling governmental entities are the United States, the State of California, the City and County of San Francisco and the City of Richmond. The settling defendants are Regal Stone Limited, Fleet Management Ltd., the M/V COSCO BUSAN and John J. Cota. The Consent Decree also resolves the liability of Dr. Charles Calza, Dr. Alan Smoot, Dr. Eugene Belogorsky, the North Bay Sleep Medicine Institute, Inc., Patty Tucker, Longs Drug Stores California, LLC, Longs Drug Stores, LLC, Longs Drug Stores Corporation, CVS Caremark Corporation, Louie Chester, the San Francisco Bar Pilots, the San Francisco Bar Pilots Benevolent Association, Peter McIsaac and Russell Nyborg. The Consent Decree payment reimburses the governmental entities for response costs, damages to natural resources and assessment costs, requires payment to compensate for lost recreation uses, and imposes a State of California penalty.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to United States v. M/V COSCO BUSAN, et al., D.J. Ref. 90-5-1-1-09349.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $16.00 (25 cents per page reproduction cost) payable to the U.S. Treasury or, if requesting by e-mail or fax, forward a check in that amount to the Consent Decree Library at the address given above.

Henry Friedman,
Assistant Chief, Environmental Enforcement Section, Environment and Natural Resources Division.

[FR Doc. 2011-24714 Filed 9-26-11; 8:45 am]

BILLING CODE 4410-15-P